DEPARTMENT OF ENERGY

Notice of Intent and Request for Information Regarding Launching a Responsible Carbon Management Initiative

AGENCY: Office of Fossil Energy and Carbon Management, Department of Energy.

ACTION: Notice of intent (NOI); request for information (RFI).

SUMMARY: The Department of Energy (DOE), Office of Fossil Energy and Carbon Management (FECM) is issuing this NOI to notify interested parties of its intent to launch a “Responsible Carbon Management Initiative” to recognize and encourage project developers and others in industry to pursue the highest levels of safety, environmental stewardship, accountability, community engagement, and societal benefits in carbon management projects. The Department also seeks input from all stakeholders through this RFI regarding the draft Principles for Responsible Carbon Management Projects and the Initiative.

DATES: Written comments and information are requested by September 11, 2023.

ADDRESSES: Interested parties may submit comments electronically to responsiblecarbonmanagementinitiative@hq.doe.gov and include “Responsible Carbon Management Initiative” in the subject line of the email. Responses must be provided as attachments to an email. Only electronic responses will be accepted.

FOR FURTHER INFORMATION CONTACT: Questions may be addressed to Stephanie Hutson, responsiblecarbonmanagementinitiative@hq.doe.gov or 202-287-6832.

SUPPLEMENTARY INFORMATION:

I. Background

In November 2021, Congress passed and President Joseph R. Biden, Jr. signed the Infrastructure Investment and Jobs Act (IIJA, Pub. L. 117-58), also known as the Bipartisan Infrastructure Law (BIL).¹ The BIL provides historic levels of funding to modernize and upgrade American infrastructure to enhance U.S. competitiveness, drive the creation of good-paying jobs, tackle the impacts of climate change, and ensure strong access to economic, environmental, and other benefits for disadvantaged communities.² The BIL appropriates more than $62 billion to the U.S. Department of Energy (DOE) ³ to invest in American manufacturing and workers; expand access to energy efficiency and clean energy; deliver reliable, clean, and affordable power to more Americans; and demonstrate and deploy clean energy technologies.

¹ Infrastructure Investment and Jobs Act, Public Law 117-58 (November 15, 2021). https://www.congress.gov/bill/117th-congress/house-bill/3684. This FOA uses the more common name Bipartisan Infrastructure Law.

² Pursuant to E.O. 14008, “Tackling the Climate Crisis at Home and Abroad,” January 27, 2021, and the Office of Management and Budget's Interim Justice40 Implementation Guidance M-21-28 and M-23-09, DOE recognizes disadvantaged communities as defined and identified by the White House Council on Environmental Quality's Climate and Economic Justice Screening Tool (CEJST), located at https://screeningtool.geoplatform.gov/. DOE's Justice40 Implementation Guidance is located at energy.gov/sites/default/files/2022-07/FinalDOEJustice40GeneralGuidance072522.pdf.

³ U.S. Department of Energy. November 2021. “DOE Fact Sheet: The Bipartisan Infrastructure Deal Will Deliver for American Workers, Families and Usher in the Clean Energy Future.” DOE Fact Sheet: The Bipartisan Infrastructure Deal Will Deliver For American Workers, Families and Usher in the Clean Energy Future, Department of Energy.

To support the goal of building a clean and equitable energy economy, the BIL-funded projects are required to (1) support meaningful community and labor engagement; (2) invest in America's workforce; (3) advance diversity, equity, inclusion, and accessibility; and (4) contribute to the President's goal that 40% of the overall benefits flow to disadvantaged communities.

Carbon management approaches such as carbon capture, transport, and storage and carbon dioxide removal are essential climate tools for meeting 1.5 °C targets. When deployed responsibly, these approaches are complementary, and not a replacement for, parallel efforts to reduce emissions through the deployment of energy efficiency, renewables, nuclear power, clean hydrogen, etc.

As part of the BIL, DOE will deploy approximately $12 billion in new carbon management funding over five years, largely for direct air capture and carbon capture, transport, use, and storage. And the 2022 Inflation Reduction Act (IRA, Pub. L. 117-169), which features a comprehensive package of clean energy and industrial tax credits, includes the most ambitious incentives in the world to date for the deployment of carbon management technologies.⁴ Taken together, BIL and IRA have the potential to incentivize large scale commercial deployment of carbon management projects.

⁴ Inflation Reduction Act, Public Law 117-169 (August 16, 2022). https://www.congress.gov/117/plaws/publ169/PLAW-117publ169.pdf.

II. Responsible Carbon Management Initiative

DOE FECM intends to launch a “Responsible Carbon Management Initiative” (Initiative) to recognize and encourage project developers and others in industry to pursue the highest levels of safety, environmental stewardship, accountability, community engagement, and societal benefits in carbon management projects. The Initiative will also aim to encourage transparency and learning through greater data and information sharing among industry, governments, communities, and other stakeholders.

This Initiative will be sequenced in two phases. In Phase 1, FECM intends to publish Principles for Responsible Carbon Management Projects (Principles). Companies can pledge to abide by the Principles, which include the following categories: Community Engagement, Workforce Development and Quality Jobs, Tribal Consultation, Environmental Justice, Environmental Responsibility, Air and Water Quality, Regulatory Requirements, Health and Safety, Emergency Response, Transparency, and Long-Term Stewardship. The Principles apply to the full range of carbon management technologies—including carbon capture, transport, use, and storage, as well as carbon dioxide removal technologies. A draft of the Principles can be found in Section III. FECM's goal for this initial phase of the Initiative is to facilitate industry intention and transparency regarding responsible carbon management deployment.

Project developers interested in demonstrating their commitment to responsible carbon management projects will complete an intake form, which may require describing how they plan to meet the Principles. FECM plans to publish the information from the completed intake forms on DOE's website. In addition, FECM will encourage project developers to publish information on how they are implementing the Principles on their own websites.

FECM will also encourage nongovernmental organizations, labor, State and local officials, and Tribal leaders (non-industry stakeholders) to consider formally endorsing the Principles. By endorsing, these stakeholders will affirm the important role that carbon management plays in meeting climate goals but also the importance of delivering societal and environmental co-benefits to communities hosting carbon management projects. FECM intends to publish non-industry stakeholder endorsements on DOE's website.

Interested industry and non-industry stakeholders can indicate their early support of the Principles and the Initiative by contacting responsiblecarbonmanagementinitiative@hq.doe.gov. In Phase 2, FECM intends to provide technical assistance through a Funding Opportunity Announcement (FOA). Through this FOA, FECM would provide resources to support project developers seeking to meet the Principles or other aspects of this effort (including increasing transparency or third-party verification). FECM intends Phase 2 to focus on evaluation of Principle implementation, accountability, and leadership. FECM does not anticipate requiring participation in Phase 1 as a prerequisite for participation in Phase 2.

Provided that Phases 1 and 2 are successful, FECM may consider developing a robust recognition program to increase and maintain visibility of industry leaders and projects that significantly advance responsible carbon management. The program would include more detailed guidance and metrics on what qualifies for recognition and would be subject to the availability of sufficient resources and funding. There may be the possibility for a FOA to be issued as part of this recognition program.

III. DOE Principles for Responsible Carbon Management Projects

Community Engagement—Project developers will be considerate of parties who are or may reasonably be affected by project deployment and will share project-related information in a timely and transparent way. Project developers will include robust two-way community engagement plans, including training on carbon management technology risks and benefits, so that communities can understand and weigh the potential opportunities and risks of hosting a project—including the social, economic, environmental, and cultural effects. Project developers will provide clear mechanisms for modifying aspects of their projects in response to community priorities and concerns raised through engagement and will provide benefits to communities and workers.

Workforce Development and Quality Jobs—Project developers will seek to create jobs within host communities and the surrounding region that provide good pay, benefits, predictable schedules, a safe work environment, and with assurances that workers will have a free and fair chance to join or form a union. Project developers will foster broad access to these jobs by making investments in training and career awareness through partnerships that serve workers (e.g., apprenticeship programs, schools, and universities). Project developers will also prioritize providing long-term employment for workers when possible and support the mobility of workers to advance in their careers.

Tribal Consultation—Project developers will respect Tribal sovereignty and self-determination, lands, assets, resources, treaty, and other federally recognized and reserved rights, considering sacred tribal lands and other areas and resources of religious or cultural significance. Project developers will consult Tribes in a manner that recognizes tribal sovereignty.

Environmental Justice—Through all phases of carbon management deployment—including siting, design, operation, and decommissioning—project developers will pursue fair treatment and meaningful involvement of all people regardless of race, color, national origin, or income. Project developers will embrace environmental justice principles and comply with Federal requirements and guidance on these issues. In particular, project developers will consider the cumulative impacts on communities hosting carbon management projects.

Environmental Responsibility—Project developers will thoroughly evaluate and mitigate environmental impacts using best practices with respect to planning, implementation, monitoring, and closure. Project developers will publish environmental impact analyses and project monitoring data in a way that is timely and easy for the public to access. Environmental analysis will include energy use and life-cycle environmental impacts, including greenhouse gases (GHGs), to ensure that projects meet their intended emissions reduction goals.

Air and Water Quality—Project developers will implement operational practices or equipment to monitor and mitigate potential non-greenhouse gas air and water emissions. Monitoring and reporting will be inclusive of N-amines and changes in co-pollutants. Project developers for carbon dioxide storage projects will thoroughly evaluate risks and avoid impacts to groundwater and other subsurface resources.

Regulatory Requirements—Project developers will rigorously and transparently adhere to all applicable regulatory requirements for protecting human health and the environment, and apply best practices developed by regulatory authorities or other standard-setting bodies. This includes timely public reporting of any regulatory violations.

Health and Safety—Project developers will site, design, construct, and operate their projects in a safe and secure manner that is protective of human health, including worker and public health and safety.

Emergency Response—Project developers will develop emergency response and remediation plans, including timely emergency alert provisions; make the plans publicly available; and provide training and resources to local emergency responders.

Transparency—Project developers will implement robust mechanisms for transparency—before, during, and after the project ceases. In particular, project developers will ensure that the siting process is open to public input and transparent with respect to how decisions are made. Project developers will work with communities to identify the types of data that will be collected and shared with the public, including the level of detail, frequency of monitoring and reporting, response to findings, and means of disseminating information.

Long-Term Stewardship—Project developers of carbon dioxide storage projects will develop closure and post-operational monitoring and reporting plans and ensure financial responsibility for any future stewardship.

IV. Questions for Request for Information

FECM is requesting comment on the Principles and the Initiative. The Principles are intended to provide project developers with a high-level framework for executing carbon management projects responsibly. DOE specifically welcomes comment on the following questions:

1. Would the Initiative and the Principles be likely to meaningfully advance responsible carbon management? If not, what changes could be made to better advance this goal?

2. At a high level, do the Principles address what is needed for responsible carbon management? If not, what additional principles may be needed?

3. In what ways, if any, could the Principles be revised to better reflect responsible carbon management?

4. Once finalized, would you agree to pledge to abide by or endorse the Principles? If not, what changes could be made to Phase 1 to encourage you to pledge to abide by or endorse the Principles?

5. How could Phase 2 and a recognition program be structured and executed to maximize adoption of the Principles?

6. Would the technical assistance envisioned in Phase 2 be helpful to advance responsible carbon management projects? Would you take advantage of this service or encourage others to take advantage? If not, why not?

V. Response Guidelines

NOI/RFI responses shall include:

1. NOI/RFI title and reference number;

2. Name(s), phone number(s), and email address(es) for the principal point(s) of contact;

3. Institution or organization affiliation and postal address; and

4. Clear indication of the specific question(s) to which you are responding.

Responses including confidential business information will be handled per guidance in Section VI.

VI. Confidential Business Information

Pursuant to 10 CFR 1004.11, any person submitting information that he or she believes to be confidential and exempt by law from public disclosure should submit via email two well-marked copies: One copy of the document marked “confidential” including all the information believed to be confidential, and one copy of the document marked “non-confidential” with the information believed to be confidential deleted. Submit these documents via email. DOE will make its own determination about the confidential status of the information and treat it according to its determination.

Signing Authority

This document of the Department of Energy was signed on August 4, 2023, by Brad Crabtree, Assistant Secretary, Office of Fossil Energy and Carbon Management, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 8, 2023.
Treena V. Garrett,
Federal Register Liaison Officer, U.S. Department of Energy.

[FR Doc. 2023-17218 Filed 8-10-23; 8:45 am]

BILLING CODE 6450-01-P